DEPARTMENT OF ENERGY

Federal Energy Regulatory Commission

[Project No. 13234-000]

City and Borough of Sitka; Notice of Preliminary Permit Application Accepted for Filing and Soliciting Comment, Motions To Intervene, and Competing Applications

July 10, 2008.

On June 3, 2008, The City and Borough of Sitka filed an application, pursuant to section 4(f) of the Federal Power Act, proposing to study the feasibility of the Takatz Lake Project to be located on Takatz Lake in the Borough of Sitka, Alaska. The project would occupy federal lands managed by the U.S. Forest Service.

The proposed project would consist of: (1) A 200 foot high concrete arch dam; (2) a reservoir with an elevation of 1,040 feet mean sea level and a capacity of 82,400 acre feet; (3) a 2,800 foot long, unlined power tunnel fed by a lake tap and draining into a 1,000 foot long steel lined penstock; (4) a powerhouse containing two turbine-generator units with a total installed capacity of 27.7 MW; (5) a 26 mile long, 69 kv transmission line and; (6) appurtenant facilities. The project is estimated to have an annual generation of 106.9 GWh.

Applicant Contact: James E. Dinley, 100 Lincoln Street, Sitka, AK 99835, 907-747-1808.

FERC Contact: Steven Sachs, 202-502-8666.

Deadline for filing comments, motions to intervene, competing applications (without notices of intent), or notices of intent to file competing applications: 60 days from the issuance of this notice.

Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13234) in the docket number field to access the document. For assistance, call toll-free 1-866-208-3372.

Kimberly D. Bose,
Secretary.

[FR Doc. E8-16292 Filed 7-16-08; 8:45 am]

BILLING CODE 6717-01-P